DEPARTMENT OF TRANSPORTATION

Federal Aviation Administration

14 CFR Part 39

[Docket No. FAA-2008-0731; Directorate Identifier 2008-NM-058-AD; Amendment 39-15812; AD 2009-04-06]

RIN 2120-AA64

Airworthiness Directives; Boeing Model 747-100, 747-100B, 747-100B SUD, 747-200B, 747-200C, 747-200F, 747-300, 747-400, 747-400D, 747-400F, 747SR, and 747SP Series Airplanes

AGENCY: Federal Aviation Administration (FAA), Department of Transportation (DOT).

ACTION: Final rule; correction.

SUMMARY: The FAA is correcting typographical errors in an existing airworthiness directive (AD) that was published previously in the Federal Register. The error resulted in two incorrect paragraph references. This AD applies to certain Boeing Model 747-100, 747-100B, 747-100B SUD, 747-200B, 747-200C, 747-200F, 747-300, 747-400, 747-400D, 747-400F, 747SR, and 747SP series airplanes. This AD requires repetitive detailed inspections of the aft pressure bulkhead for indications of “oil cans” and previous oil can repairs at reduced compliance times, and corrective actions if necessary.

DATES: Effective April 2, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ivan Li, Aerospace Engineer, Airframe Branch, ANM-120S, FAA, Seattle Aircraft Certification Office, 1601 Lind Avenue, SW., Renton, Washington 98057-3356; telephone (425) 917-6437; fax (425) 917-6590.

SUPPLEMENTARY INFORMATION: On January 29, 2009, the FAA issued AD 2009-04-06, amendment 39-15812 (74 FR 8719, February 26, 2009), for certain Boeing Model 747-100, 747-100B, 747-100B SUD, 747-200B, 747-200C, 747-200F, 747-300, 747-400, 747-400D, 747-400F, 747SR, and 747SP series airplanes. This AD requires repetitive detailed inspections of the aft pressure bulkhead for indications of “oil cans” and previous oil can repairs at reduced compliance times, and corrective actions if necessary.

As published, there are two locations in the AD that reference an incorrect paragraph identifier.

No other part of the regulatory information has been changed; therefore, the final rule is not republished in the Federal Register.

The effective date of this AD remains April 2, 2009.

§ 39.13 [Corrected]

In the Federal Register of February 26, 2009, on page 8721, in the first column, paragraph (i) of AD 2009-04-06 is corrected to read as follows:

* * * * *

(i) If no crack is found during the eddy current inspection required by paragraph (h) of this AD, do the actions specified in paragraph (i)(1) or (i)(2) of this AD, as applicable.

* * * * *

In the Federal Register of February 26, 2009, on page 8721, in the second column, paragraph (j)(1) of AD 2009-04-06 is corrected to read as follows:

* * * * *

(1) If no crack and no oil can are found, repeat the detailed inspection in accordance with paragraph (g) of this AD.

* * * * *

Issued in Renton, Washington, on May 6, 2009.
Ali Bahrami,
Manager, Transport Airplane Directorate, Aircraft Certification Service.

[FR Doc. E9-11280 Filed 5-15-09; 8:45 am]

BILLING CODE 4910-13-P